SMALL BUSINESS ADMINISTRATION

13 CFR Part 121

RIN 3245-AG47

Small Business Size Standards; Manufacturing; Correction

AGENCY: U.S. Small Business Administration.

ACTION: Correcting amendment.

SUMMARY: This document corrects an error in the U.S. Small Business Administration's (SBA) interim final rule that appeared in the Federal Register, which adopted North American Industry Classification System 2012 (NAICS 2012) for small business size standards. This document also removes the entry for NAICS 315192 in its entirety. These corrections do not affect small business size standards.

DATES: Effective November 27, 2013, and applicable beginning October 1, 2012.

FOR FURTHER INFORMATION CONTACT: Khem Sharma, Chief, Office of Size Standards, U.S. Small Business Administration, 409 Third Street SW., Washington, DC 20416.

SUPPLEMENTARY INFORMATION: This correction removes an errant typographical character, which inadvertently appeared before the NAICS 339910 entry in the table in § 121.201. This document also removes the entry for NAICS 315192 in its entirety. These corrections do not affect small business size standards.

In FR Doc. 2012-19973 appearing on page 49991 of the August 20, 2012 issue of the Federal Register, a correction is necessary on page 50011. Specifically, it is necessary to remove the less-than-or-equal-to (≤) symbol that precedes NAICS 339910 that was not included in SBA's submission for publication. This document removes the unintended character that derived from a coding error in the publication process.

In addition, the entry for NAICS 315192, Underwear and Nightwear Knitting Mills, should be deleted from the CFR. On page 49994 of the August 20, 2012 issue of the Federal Register, Table 2 indicates that NAICS 315192 was consolidated with another industry to create a new one, namely NAICS 315190, Other Apparel Knitting Mills. That is, under NAICS 2012, NAICS 315192 is no longer a valid industry. In addition, on page 50008, the rule states “y. remove . . . 315192 . . .” The revised table, “Small Business Size Standards by NAICS Industry” correctly includes NAICS 315190. However, NAICS 315192 was not removed from the table.

Need for Correction

The purpose of this action is to correct the CFR by removing an erroneous character from the entry for NAICS 339910.

This correction also removes the entire entry for NAICS 315192 from the “Small Business Size Standards by NAICS Industry” (13 CFR 121.201), because the industry does not exist in NAICS 2012. The activities that NAICS 2007 had included in NAICS 315192 are now in NAICS 315190.

List of Subjects in 13 CFR Part 121

Administrative practice and procedure, Government procurement, Government property, Grant programs—business, Individuals with disabilities, Loan programs—business, Reporting and recordkeeping requirements, Small businesses.

For the reasons set forth in the preamble, SBA amends 13 CFR part 121 by making the following correcting amendment:

PART 121—SMALL BUSINESS SIZE REGULATIONS

1. The authority citation for part 121 continues to read as follows:

Authority: 15 U.S.C. 632, 634(b)(6), 662, 694a(9).

2. In § 121.201, in the table:

a. Remove entry 315192, “Underwear and Nightwear Knitting Mills”; and

b. Revise entry “339910” to read as follows:

§ 121.201 What size standards has SBA identified by North American Industry Classification System codes?

* * * * *

Small Business Size Standards by NAICS Industry
NAICS Code | NAICS U.S. industry title | Size standards in millions of dollars | Size standards in number of employees
* * * * * * *
339910 | Jewelry and Silverware Manufacturing |  | 500
* * * * * * *

Dated: November 11, 2013.
Calvin Jenkins,
Deputy Associate Administrator, for Government Contracting and Business Development.

[FR Doc. 2013-26762 Filed 11-26-13; 8:45 am]

BILLING CODE 8205-01-P